ENVIRONMENTAL PROTECTION AGENCY

40 CFR Part 52

[EPA-R03-OAR-2010-0594; FRL-9208-2]

Approval and Promulgation of Air Quality Implementation Plans; Maryland; Control of Volatile Organic Compound Emissions From Industrial Solvent Cleaning Operations

AGENCY: Environmental Protection Agency (EPA).

ACTION: Direct final rule.

SUMMARY: EPA is taking direct final action to approve a State Implementation Plan (SIP) revision submitted by the Maryland Department of the Environment (MDE). This SIP revision consists of an addition to Maryland's Volatile Organic Compounds from Specific Processes Regulation. MDE has adopted standards for industrial solvent cleaning operations that satisfy the reasonably available control technology (RACT) requirements for sources of volatile organic compounds (VOCs) covered by control techniques guidelines (CTG). This amendment reduces VOC emissions from industrial solvent cleaning operations which will help Maryland attain and maintain the National Ambient Air Quality Standards (NAAQS) for ozone. This action is being taken under the Clean Air Act (CAA).

DATES: This rule is effective on November 29, 2010 without further notice, unless EPA receives adverse written comment by October 29, 2010. If EPA receives such comments, it will publish a timely withdrawal of the direct final rule in the Federal Register and inform the public that the rule will not take effect.

ADDRESSES: Submit your comments, identified by Docket ID Number EPA-R03-OAR-2010-0594, by one of the following methods:

A. http://www.regulations.gov. Follow the on-line instructions for submitting comments.

B. E-mail: pino.maria@epa.gov.

C. Mail: EPA-R03-OAR-2010-0594, Maria Pino, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2010-0594. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Jacqueline Lewis, (215) 814-2037, or by e-mail at lewis.jacqueline@epa.gov.

SUPPLEMENTARY INFORMATION:

I. Background

Clean Air Act (CAA) section 172(c)(1) provides that SIPs for nonattainment areas must include “reasonably available control measures” (RACM), including “reasonably available control technology,” for sources of emissions. Section 182(b)(2)(A) provides that for certain nonattainment areas, States must revise their SIPs to include RACT for sources of VOC emissions covered by a CTG document issued after November 15, 1990 and prior to the area's date of attainment.

CAA section 183(e) directs EPA to list for regulation those categories of products that account for at least 80 percent of the VOC emissions, on a reactivity-adjusted basis, from consumer and commercial products in areas that violate the NAAQS for ozone. The CTG is intended to provide state and local air pollution control authorities information that should assist them in determining RACT for VOC from industrial cleaning solvents operations.

In September 2006, EPA published a CTG for industrial solvent cleaning operations. This CTG lists the cleaning operations associated with industrial cleaning solvents, identifies the sources of VOC emissions from those cleaning operations, and describes the emissions threshold that applies to this CTG and available control options for addressing VOC emissions.

In February 1994, EPA published and Alternative Control Techniques (ACT) document for industrial cleaning solvents. This report describes alternative techniques that will reduce VOC emissions from those industrial cleaning solvents used to remove contaminants. The ACT document also provides a quantitative overview of cleaning solvents used and a model for accounting and tracking solvent usage. This document is also an appendix to the CTG document listed above.

II. Summary of SIP Revision

On April 22, 2010, the State of Maryland submitted a SIP revision (#10-03) to address sources of VOC emissions covered by EPA's CTG: Industrial Cleaning Solvents (see EPA 453/R-06-001, September 2006). This SIP revision adds a new regulation .09-1 under COMAR 26.11.19 (Volatile Organic Compounds from Specific Processes).

COMAR 26.11.19.09-1—Control of VOC Emissions from Industrial Solvent Cleaning Operations Other Than Cold and Vapor Degreasing—affects facilities that emit 15 pounds or more per day of VOCs (before consideration of controls) from the use of industrial solvent cleaning operations other then cold and vapor degreasing. Exclusions include:

• Cleaning operations at sources subject to any other VOC regulation in COMAR 26.11.19:

• Cleaning of electrical and electric components;

• Cleaning of high precision optics;

• Stripping;

• Janitorial cleaning; cleaning of resin, coating, ink, and adhesive mixing, molding and application equipment;

• Cleaning operations in research and development laboratories;

• Cleaning operations in medical device or pharmaceutical manufacturing; and

• Cleaning operations related to performance or quality assurance testing of coatings, inks, or adhesives.

COMAR 26.11.19.09-1 requires the vapor pressure of the cleaning solution to be less than or equal to 8 millimeters of mercury (mm Hg) at 20° C before it may be used. This regulation also requires the maintenance of monthly records of the total solvent material used. These records must be made available to MDE upon request. Facilities affected by this regulation must also observe the work practice requirements, compliance procedures and test methods found in COMAR 26.11.19.02 (Applicability, Determining Compliance, Reporting, and General Requirements).

During the State's public comment period, a comment was received opposing the implementation of the 50 grams VOC per liter limit to digital printing operations. The commenter stated that the provisions contained in COMAR 26.11.19.18F include the use of cleaning solvents by digital printing operations; therefore digital operations should be exempt from this proposed regulation. In response Maryland concluded that digital printing sources are subject to the regulations under COMAR 26.11.19.18F, and are therefore exempt from the requirements of COMAR 26.11.19.09-1. EPA agrees with Maryland's response; since Maryland's definition of Industrial Solvent Cleaning Operations includes many exemptions, one of which excludes all sources subject to the requirements of any other VOC regulation in COMAR 26.11.19 (Volatile Organic Compounds from Specific Processes). COMAR 26.11.19.09-1A(6)(b)(ii), reads as follows: Industrial Solvent Cleaning Operations does not include cleaning operations at sources subject to any other VOC regulations in this subtitle.

III. Final Action

EPA is approving Maryland's SIP revision because it meets the requirement for establishing RACT for sources of VOC emissions covered by EPA's Industrial Cleaning Solvents CTG. EPA is publishing this rule without prior proposal because the Agency views this as a noncontroversial amendment and anticipates no adverse comment. However, in the “Proposed Rules” section of today's Federal Register, EPA is publishing a separate document that will serve as the proposal to approve the SIP revision if adverse comments are filed. This rule will be effective on November 29, 2010 without further notice unless EPA receives adverse comment by October 29, 2010. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

A. General Requirements

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the Clean Air Act, petitions for judicial review of this action must be filed in the United States Court of Appeals for the appropriate circuit by November 29, 2010. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking.

This action pertaining to Maryland's adoption of RACT requirements for VOC emissions from industrial cleaning solvents may not be challenged later in proceedings to enforce its requirements. (See section 307(b)(2).)

List of Subjects in 40 CFR Part 52

Environmental protection, Air pollution control, Incorporation by reference, Ozone, Reporting and recordkeeping requirements, Volatile organic compounds.

Dated: September 14, 2010.
W.C. Early,
Acting Regional Administrator, Region III.

40 CFR part 52 is amended as follows:

PART 52—[AMENDED]

1. The authority citation for part 52 continues to read as follows:

Authority: 42 U.S.C. 7401 et seq.

Subpart V—Maryland

2. In § 52.1070, the table in paragraph (c) is amended by adding an entry for COMAR 26.11.19.09-1 to read as follows:

§ 52.1070 Identification of plan.

* * * * *

(c) * * *

EPA-Approved Regulations in the Maryland SIP
Code of Maryland administrative regulations (COMAR) citation | Title/subject | State effective date | EPA approval date | Additional explanation/citation at 40 CFR 52.1100
* * * * * * *
26.11.19 Volatile Organic Compounds from Specific Processes
| * * * * * * *
26.11.19.09-1 | Control of VOC Emissions from Industrial Solvent Cleaning Operations Other Than Cold and Vapor Degreasing | 4/19/10 | 9/29/10 [Insert page number where the document begins] | New Regulation.
* * * * * * *

* * * * *

[FR Doc. 2010-24421 Filed 9-28-10; 8:45 am]

BILLING CODE 6560-50-P